DEPARTMENT OF COMMERCE

Bureau of Economic Analysis

[Docket # 221017-0220]

Bureau of Economic Analysis Advisory Committee Meeting

AGENCY: Bureau of Economic Analysis, U.S. Department of Commerce.

ACTION: Notice of public meeting.

SUMMARY: Pursuant to the Federal Advisory Committee Act, the Bureau of Economic Analysis (BEA) announces a meeting of the Bureau of Economic Analysis Advisory Committee (BEAAC or the Committee). The meeting will address proposed improvements, extensions, and research related to BEA's economic accounts. In addition, the meeting will include an update on recent statistical developments.

DATES: November 18, 2022. The meeting begins at 10 a.m. and adjourns at 3 p.m. (ET).

ADDRESSES: This meeting will be a hybrid event. Committee members and presenters will have the option to join the meeting in person or via video conference technology. All outside attendees will be invited to attend via video conference technology only. The meeting is open to the public via video conference technology. Contact Gianna Marrone at (301) 278-9282 or gianna.marrone@bea.gov by November 10, 2022 to RSVP. The call-in number, access code, and presentation link will be posted 24 hours prior to the meeting on https://www.bea.gov/about/bea-advisory-committee.

FOR FURTHER INFORMATION CONTACT: Gianna Marrone, Program Analyst, U.S. Department of Commerce, Bureau of Economic Analysis, Suitland, MD, 20746; phone (301) 278-9282; email gianna.marrone@bea.gov.

SUPPLEMENTARY INFORMATION: The Committee was established September 2, 1999 in accordance with the Federal Advisory Committee Act (5 U.S.C. app. section 2). The Committee advises the Director of BEA on matters related to the development and improvement of BEA's national, regional, industry, and international economic accounts, with a focus on new and rapidly growing areas of the U.S. economy. The Committee provides recommendations from the perspectives of the economics profession, business, and government.

The Committee aims to have a balanced representation among its members, considering such factors as geography, age, sex, race, ethnicity, technical expertise, community involvement, and knowledge of programs and/or activities related to BEAAC. Individual members are selected based on their expertise in or representation of specific areas as needed by BEAAC.

This meeting is open to the public. The meeting is accessible to people with disabilities. Requests for foreign language interpretation or other auxiliary aids should be directed to Gianna Marrone at (301) 278-9282 or gianna.marrone@bea.gov by November 10, 2022. Persons with extensive questions or statements must submit them in writing by November 10, 2022, to Gianna Marrone, gianna.marrone@bea.gov. Persons with extensive questions or statements must submit them in writing by November 10, 2022., to Gianna Marrone, gianna.marrone@bea.gov.

Authority: Federal Advisory Committee Act (FACA), as amended, 5 U.S.C. app.

Dated: October 13, 2022.
Ryan Noonan,
Designated Federal Officer, Bureau of Economic Analysis.

[FR Doc. 2022-22893 Filed 10-20-22; 8:45 am]

BILLING CODE 3510-06-P